COMMITTEE FOR PURCHASE FROM PEOPLE WHO ARE BLIND OR SEVERELY DISABLED

Procurement List Deletions

AGENCY: Committee for Purchase From People Who Are Blind or Severely Disabled.

ACTION: Deletions from Procurement List.

SUMMARY: This action deletes from the Procurement List products previously furnished by nonprofit agencies.

EFFECTIVE DATE: December 3, 2006.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, Telephone: (703) 603-7740, Fax: (703) 603-0655, or e-mail CMTEFedReg@jwod.gov.

SUPPLEMENTARY INFORMATION:

Deletions

On July 21, 2006, the Committee for Purchase From People Who Are Blind or Severely Disabled published notice (71 F.R. 41417) of proposed deletions from the Procurement List.

After consideration of the relevant matter presented, the Committee has determined that the products listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

End of Certification

Accordingly, the following products are deleted from the Procurement List:

Products

Binder, Note Pad

NSN: 7510-00-NIB-0195—Binder, Note Pad.

NSN: 7510-00-NIB-0195—Binder, Note Pad.

NPA: ForSight Vision, York, PA.

NPA: New York City Industries for the Blind, Inc., Brooklyn, NY.

Contracting Activity: Office Supplies & Paper Products Acquisition Ctr, New York, NY.

Card Set, Guide, File

NSN: 7530-01-175-1553—Card Set, Guide, File.

NPA: Georgia Industries for the Blind, Bainbridge, GA.

Contracting Activity: Office Supplies & Paper Products Acquisition Ctr, New York, NY.

Case, Carrying

NSN: 1220-00-765-5870—Case, Carrying.

NSN: 1220-00-937-8286—Case, Carrying.

NPA: Arizona Industries for the Blind, Phoenix, AZ.

Chock Wheel

NSN: 1730-00-NIB-001B—Chock Wheel (6″ x 8″ x 18″).

NSN: 1730-00-NIB-001A—Chock Wheel (2″ x 4″ x 8″).

NSN: 1730-00-NIB-001E—Chock Wheel (10″ x 20″).

NSN: 1730-00-NIB-001D—Chock Wheel (8″ x 12″).

NSN: 1730-00-NIB-001C—Chock Wheel (6″ x 8″ x 76″).

NPA: The Oklahoma League for the Blind, Oklahoma City, OK.

Contracting Activity: Defense Supply Center Richmond, Richmond, VA.

Detergent, General Purpose

NSN: 7930-01-055-6122—Detergent, General Purpose.

NPA: Lighthouse for the Blind of Houston, Houston, TX.

Contracting Activity: GSA, Southwest Supply Center, Fort Worth, TX.

Inking Pad, Rubber Stamp

NSN: 7510-01-431-6515—Inking Pad, Rubber Stamp.

NPA: Cattaraugus County Chapter, NYSARC, Olean, NY.

Contracting Activity: Office Supplies & Paper Products Acquisition Ctr, New York, NY.

Insert, Foam, Laminated

NSN: 8135-00-NSH-0004—Insert, Foam, Laminated.

NPA: Goodwill Industries of the Columbia Willamette, Portland, OR.

Contracting Activity: Bureau of the Mint, Department of the Treasury, Washington, DC.

Splint, Pneumatic

NSN: 6515-00-935-6593—Splint, Pneumatic.

NSN: 6515-00-935-6592—Splint, Pneumatic.

NPA: The Lighthouse for the Blind, Inc. (Seattle Lighthouse), Seattle, WA.

Contracting Activity: Defense Supply Center Philadelphia, Philadelphia, PA.

Sheryl D. Kennerly,
Director, Information Management.

[FR Doc. E6-18570 Filed 11-2-06; 8:45 am]

BILLING CODE 6353-01-P